NATIONAL COUNCIL ON DISABILITY (NCD)

Sunshine Act Meetings

Type: Quarterly Meeting.

Dates and Times: April 21, 2008, 8:30 a.m.-5:30 p.m.

April 22, 2008, 8:30 a.m.-5 p.m.

April 23, 2008, 8:30 a.m.-12:30 p.m.

Location: The Westin Arlington Gateway, 801 North Glebe Road, Arlington, VA.

Status: April 21, 2008, 8:30 a.m.-5:30 p.m.—Open.

April 21, 2008, 5:30 p.m.-6 p.m.—Closed Executive Session.

April 22, 2008, 8:30 a.m.-5 p.m.—Open.

April 23, 2008, 8:30 a.m.-12:30 p.m.—Open.

Agenda: Updates on: Healthcare; Veterans' Issues; Civil Rights; Emerging Trends; Employment; Public Comment Sessions; Emergency Preparedness; Reports from the Chairperson, Council Members, and the Executive Director; Unfinished Business; New Business; Announcements; Adjournment.

Sunshine Act Meeting Contact: Mark S. Quigley, Director of External Affairs, NCD, 1331 F Street, NW., Suite 850, Washington, DC 20004; 202-272-2004 (voice), 202-272-2074 (TTY), 202-272-2022 (fax).

Agency Mission: NCD is an independent federal agency and is composed of 15 members appointed by the President, by and with the advice and consent of the Senate. NCD provides advice to the President, Congress, and executive branch agencies promoting policies, programs, practices, and procedures that (A) guarantee equal opportunity for all individuals with disabilities, regardless of the nature or severity of the disability; and (B) to empower individuals with disabilities to achieve economic self-sufficiency, independent living, and inclusion and integration into all aspects of society.

Accommodations: Those needing reasonable accommodations should notify NCD immediately.

Language Translation: In accordance with E.O. 13166, Improving Access to Services for Persons with Limited English Proficiency, those people with disabilities who are limited English proficient and seek translation services for these meetings should notify NCD immediately.

Dated: March 19, 2008.
Michael C. Collins,
Executive Director.

[FR Doc. 08-1078 Filed 3-24-08; 12:10 pm]

BILLING CODE 6820-MA-P